DEPARTMENT OF TRANSPORTATION

Coast Guard

[USCG-2001-8891]

Merchant Marine Personnel Advisory Committee

AGENCY: Coast Guard, DOT.

ACTION: Notice of meetings.

SUMMARY: The Merchant Marine Personnel Advisory Committee (MERPAC) and its working groups will meet to discuss various issues relating to the training and fitness of merchant marine personnel. MERPAC advises the Secretary of Transportation on matters relating to the training, qualifications, licensing, certification and fitness of seamen serving in the U.S. merchant marine. All meetings will be open to the public.

DATES: MERPAC will meet on Tuesday, March 27, 2001, from 8 a.m. to 4 p.m. and on Wednesday, March 28, 2001, from 8 a.m. to 3 p.m. These meetings may adjourn early if all business is finished. Requests to make oral presentations should reach the Coast Guard on or before March 7, 2001. Written material and requests to have a copy of your material distributed to each member of the committee or subcommittee should reach the Coast Guard on or before March 7, 2001.

ADDRESSES: MERPAC will meet on both days at the RTM STAR Center, 2 West Dixie Highway, Dania Beach, FL 33004. Further directions regarding the location of the RTM STAR Center may be obtained by contacting Ms. Cathy Servideo at (954) 920-3222, extension 7270. Send written material and requests to make oral presentations to Commander Brian J. Peter, Commandant (G-MSO-1), U.S. Coast Guard Headquarters, 2100 Second Street SW., Washington, DC 20593-0001. This notice is available on the Internet at http://dms.dot.gov.

FOR FURTHER INFORMATION CONTACT: For questions on this notice, contact Commander Brian J. Peter, Executive Director of MERPAC, or Mr. Mark C. Gould, Assistant to the Executive Director, telephone 202-267-0229, fax 202-267-4570, or e-mail mgould@comdt.uscg.mil.

SUPPLEMENTARY INFORMATION: Notice of these meetings is given under the Federal Advisory Committee Act, 5 U.S.C. App. 2.

Agenda of March 27, 2001 Meeting:

The full committee will meet to discuss the objectives for the meeting. The committee will then break up into the following working groups: Task Statement 24, concerning recommendations on a program to revise the testing for advancement of deck officers to conform to the STCW; Task Statement 25, concerning recommendations on a program to revise the testing for advancement of engineering officers with unlimited horsepower licenses to conform to the STCW; and, Task Statement 26, concerning recommendations on a program to revise the testing for advancement of engineering officers with limited horsepower licenses to conform to the STCW. New working groups may be formed to address any new issues or tasks. At the end of the day, the working groups will make a report to the full committee on what has been accomplished in their meetings. No action will be taken on these reports on this date.

Agenda of March 28, 2001, Meeting:

The agenda includes the following:

(1) Introduction.

(2) Oath of Office to New Member and Re-appointed Members.

(3) Working Group Reports:

(a) Task Statement 24, concerning recommendations on a program to revise the testing for advancement of deck officers to conform to the STCW

(b) Task Statement 25, concerning recommendations on a program to revise the testing for advancement of engineering officers with unlimited horsepower licenses to conform to the STCW

(c) Task Statement 26, concerning recommendations on a program to revise the testing for advancement of engineering officers with limited horsepower licenses to conform to the STCW

(4) Other items to be discussed:

(a) Standing Committee—Prevention Through People

(b) Other items brought up for discussion by the committee or the public

Procedural

Both meetings are open to the public. Please note that the meetings may adjourn early if all business is finished. At the Chair's discretion, members of the public may make oral presentations during the meetings. If you would like to make an oral presentation at a meeting, please notify the Executive Director no later than March 7, 2001. Written material for distribution at a meeting should reach the Coast Guard no later than March 7, 2001. If you would like a copy of your material distributed to each member of the committee or subcommittee in advance of the meeting, please submit 25 copies to the Executive Director no later than March 7, 2001.

Information on Services for Individuals with Disabilities

For information on facilities or services for individuals with disabilities or to request special assistance at the meetings, contact the Executive Director as soon as possible.

Dated: February 12, 2001.
Joseph J. Angelo,
Director of Standards, Marine Safety and Environmental Protection.

[FR Doc. 01-4279 Filed 2-20-01; 8:45 am]

BILLING CODE 4910-15-U